DEPARTMENT OF THE INTERIOR

Bureau of Ocean Energy Management

[OMB Control Number 1010-0187; Docket ID: BOEM-2017-0016]

Agency Information Collection Activities; Project Planning for the Use of Outer Continental Shelf Sand, Gravel, and Shell Resources in Construction Projects That Qualify for Negotiated Noncompetitive Agreement

AGENCY: Bureau of Ocean Energy Management, Interior.

ACTION: Notice of information collection; request for comment.

SUMMARY: In accordance with the Paperwork Reduction Act of 1995, the Bureau of Ocean Energy Management (BOEM) is proposing this information collection request (ICR) to renew Office of Management and Budget (OMB) Control Number 1010-0187.

DATES: Comments must be received by BOEM no later than February 21, 2023.

ADDRESSES: Send your comments on this ICR by mail to the BOEM Information Collection Clearance Officer, Anna Atkinson, Bureau of Ocean Energy Management, 45600 Woodland Road, Sterling, Virginia 20166; or by email to anna.atkinson@boem.gov. Please reference OMB Control Number 1010-0187 in the subject line of your comments. You may also view the ICR and its related documents by searching the docket number BOEM-2017-0016 at http://www.regulations.gov.

FOR FURTHER INFORMATION CONTACT: Anna Atkinson by email at anna.atkinson@boem.gov, or by telephone at 703-787-1025. Individuals in the United States who are deaf, deafblind, hard of hearing, or have a speech disability may dial 711 (TTY, TDD, or TeleBraille) to access telecommunications relay services. Individuals outside of the United States should use the relay services offered within their country to make international calls to the point-of-contact in the United States.

SUPPLEMENTARY INFORMATION: In accordance with the Paperwork Reduction Act of 1995, BOEM provides the general public and other Federal agencies with an opportunity to comment on new, proposed, revised, and continuing collections of information. This helps BOEM assess the impact of its information collection requirements and minimize the public's reporting burden. It also helps the public understand BOEM's information collection requirements and provide the requested data in the desired format.

BOEM is soliciting comments on this proposed ICR. BOEM is especially interested in public comments addressing the following issues: (1) is the collection necessary to the proper functions of BOEM? (2) what can BOEM do to ensure that this information is processed and used in a timely manner? (3) is the burden estimate accurate? (4) how might BOEM enhance the quality, utility, and clarity of the information to be collected? and (5) how might BOEM minimize the burden of this collection on the respondents, including minimizing the burden through the use of information technology?

Comments submitted in response to this notice are a matter of public record. BOEM will include or summarize each comment in its ICR to OMB for approval of this information collection, and comments will be posted on www.reginfo.gov. You should be aware that your entire comment—including your address, phone number, email address, or other personally identifiable information included in your comment—may be made publicly available at any time.

Please be aware that BOEM's practice is to make all comments, including the names and addresses of individuals, available for public inspection on www.reginfo.gov. Even if BOEM withholds your personally identifiable information in the context of this ICR, your comment is subject to the Freedom of Information Act (FOIA) (5 U.S.C. 552). If your comment is requested under FOIA, your information will only be withheld if a determination is made that one of the FOIA exemptions to disclosure applies. Such a determination will be made in accordance with the Department of the Interior's FOIA regulations and applicable law.

In order for BOEM to consider withholding from disclosure your personally identifiable information, you must identify, in a cover letter, any information contained in your comment that, if released, would constitute a clearly unwarranted invasion of your privacy. You must also briefly describe any possible harmful consequences of the disclosure of information, such as embarrassment, injury, or other harm.

BOEM will make available for public inspection, in their entirety, all comments (except proprietary information as discussed in the next paragraph) submitted by organizations and businesses or by individuals identifying themselves as representatives of organizations or businesses.

BOEM protects proprietary information in accordance with FOIA and the Department's implementing regulations (43 CFR part 2).

Title of Collection: “Project Planning for the Use of Outer Continental Shelf Sand, Gravel, and Shell Resources in Construction Projects that Qualify for Negotiated Noncompetitive Agreement.”

Abstract: Under the authority delegated by the Secretary of the Interior, BOEM is authorized, pursuant to section 8(k)(2) of the Outer Continental Shelf (OCS) Lands Act (43 U.S.C. 1337(k)(2)), to convey rights to OCS sand, gravel, and shell resources by negotiated noncompetitive agreement (NNA) for use in shore protection and beach and coastal restoration projects, or for use in construction projects funded in whole or part by, or authorized by, the Federal Government.

This ICR does not significantly change the 2020 OMB approved information collection.

Since the beginning of 2020, BOEM has processed eight NNAs and amendments to existing agreements. In order for BOEM to continue to meet the needs of local and State governments, information must be acquired to plan for future projects and anticipated workloads. Therefore, BOEM will issue calls for information about needed resources and locations from interested parties to develop and maintain a project schedule. BOEM also requires information to quickly respond to short-notice requests such as during an emergency declaration in the aftermath of a hurricane or tropical storm.

BOEM will publish all ongoing projects on the website http://www.boem.gov/Request-and-Active-Leases/.

OMB Control Number: 1010-0187.

Form Number: None.

Type of Review: Extension of a currently approved information collection.

Respondents/Affected Public: Potential respondents comprise States, counties, localities, and Tribes.

Total Estimated Number of Annual Responses: 80 responses.

Total Estimated Number of Annual Burden Hours: 200 hours.

Respondent's Obligation: Voluntary.

Frequency of Collection: On occasion or annually.

Total Estimated Annual Non-Hour Burden Cost: None.

Estimated Reporting and Recordkeeping Hour Burden: BOEM estimates that the annual reporting burden for this collection is about 200 hours, assuming an emergency declaration is made each year.

Local Government Compilation: 25 local governments × 1 hour per information collection response × 2 responses annually = 50 hours.

State Government Compilation: 15 State governments × 5 hours per information collection response × 2 responses annually = 150 hours (50 local government hours + 150 State hours = 200 total burden hours).

An agency may not conduct or sponsor, and a person is not required to respond to, a collection of information unless it displays a valid OMB control number.

The authority for this action is the Paperwork Reduction Act of 1995 (44 U.S.C. 3501 et seq.).

Karen Thundiyil,
Chief, Office of Regulations, Bureau of Ocean Energy Management.

[FR Doc. 2022-27905 Filed 12-22-22; 8:45 am]

BILLING CODE 4340-98-P